DEPARTMENT OF THE INTERIOR

National Park Service

[2253-665]

Notice of Intent To Repatriate a Cultural Item: University of Denver Department of Anthropology and Museum of Anthropology, Denver, CO

AGENCY: National Park Service, Interior.

ACTION: Notice.

SUMMARY: The University of Denver Department of Anthropology and Museum of Anthropology, in consultation with the appropriate Indian tribes, has determined that a cultural item meets the definition of sacred object and repatriation to the Indian tribes stated below may occur if no additional claimants come forward. Representatives of any Indian tribe that believes itself to be culturally affiliated with the item may contact the University of Denver Department of Anthropology and Museum of Anthropology.

DATES: Representatives of any Indian tribe that believes it has a cultural affiliation with the cultural item should contact the University of Denver Department of Anthropology and Museum of Anthropology at the address below by March 7, 2012.

ADDRESSES: Anne Coats Amati, NAGPRA Coordinator/Registrar, University of Denver Department of Anthropology and Museum of Anthropology, 2000 E Asbury, Sturm 146, Denver, CO 80208, telephone (303) 871-2687.

SUPPLEMENTARY INFORMATION: Notice is here given in accordance with the Native American Graves Protection and Repatriation Act (NAGPRA), 25 U.S.C. 3005, of the intent to repatriate a cultural item in the possession of the University of Denver Department of Anthropology and Museum of Anthropology (DUMA), that meets the definition of sacred object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Items

Between 1951 and 1952, a lidded basket from the collection of Mrs. Charles S. Sprague was accessioned into DUMA. The finely woven, coiled lidded basket (1641 A-B) features a red-brown design on both the bowl and the lid. The Pine Tree design identifies the item as a ceremonial basket used in the “Spring Ceremony”. Baskets such as this one were used for the storage of sacred items, shell money, beads and other treasured items. Ceremonial baskets were sometimes left at gravesites with special offerings for the deceased individual's safe passage into the Spirit World.

In consultation with representatives from the Santa Rosa Indian Community of the Santa Rosa Rancheria, California (Tachi Yokut Tribe) and the Ione Band of Miwok Indians of California, this basket is determined to be a sacred object.

Determinations Made by the University of Denver Department of Anthropology and Museum of Anthropology

Officials of the DUMA have determined that:

• Pursuant to 25 U.S.C. 3001(3)(C), the cultural item described above is a specific ceremonial object needed by traditional Native American religious leaders for the practice of traditional Native American religions by their present-day adherents.

• Pursuant to 25 U.S.C. 3001(2), there is a relationship of shared group identity that can be reasonably traced between the sacred object and the Santa Rosa Indian Community of the Santa Rosa Rancheria, California (Tachi Yokut Tribe) and the Ione Band of Miwok Indians of California.

Additional Requestors and Disposition

Representatives of any other Indian tribe that believes itself to be culturally affiliated with the sacred object should contact Anne Coats Amati, University of Denver Department of Anthropology and Museum of Anthropology, 2000 E Asbury Ave, Sturm 146, Denver, CO 80208, telephone (303) 871-2687, before March 7, 2012. Repatriation of the sacred object to the Santa Rosa Indian Community of the Santa Rosa Rancheria, California (Tachi Yokut Tribe) and the Ione Band of Miwok Indians of California may proceed after that date if no additional claimants come forward.

The University of Denver Department of Anthropology and Museum of Anthropology is responsible for notifying the Berry Creek Rancheria of Maidu Indians of California; Buena Vista Rancheria of Me-Wuk Indians of California; California Valley Miwok Tribe, California; Cedarville Rancheria, California; Cher-Ae Heights Indian Community of the Trinidad Rancheria, California; Chicken Ranch Rancheria of Me-Wuk Indians of California; Enterprise Rancheria of Maidu Indians of California; Federated Indians of Graton Rancheria, California; Fort McDermitt Paiute and Shoshone Tribes of the Fort McDermitt Indian Reservation, Nevada and Oregon; Greenville Rancheria of Maidu Indians of California; Ione Band of Miwok Indians of California; Jackson Rancheria of Me-Wuk Indians of California; Mechoopda Indian Tribe of Chico Rancheria, California; Mooretown Rancheria of Maidu Indians of California; Paiute-Shoshone Tribe of the Fallon Reservation and Colony, Nevada; Pyramid Lake Paiute Tribe of the Pyramid Lake Reservation, Nevada; Reno-Sparks Indian Colony, Nevada; Shingle Springs Band of Miwok Indians, Santa Rosa Indian Community of the Santa Rosa Rancheria, California (Tachi Yokut Tribe); Shingle Springs Rancheria (Verona Tract), California; Shoshone-Paiute Tribes of the Duck Valley Reservation, Nevada; Susanville Indian Rancheria, California; Tuolumne Band of Me-Wuk Indians of the Tuolumne Rancheria of California; United Auburn Indian Community of the Auburn Rancheria of California; Walker River Paiute Tribe of the Walker River Reservation, Nevada; Winnemucca Indian Colony of Nevada; and the Yerington Paiute Tribe of the Yerington Colony & Campbell Ranch, Nevada that this notice has been published.

Dated: January 31, 2012.
Sherry Hutt,
Manager, National NAGPRA Program.

[FR Doc. 2012-2528 Filed 2-3-12; 8:45 am]

BILLING CODE 4312-50-P